DEPARTMENT OF COMMERCE

Bureau of the Census

[Docket Number 200127-0030]

Management and Organizational Practices Survey—Hospitals (MOPS-HP)

AGENCY: Bureau of the Census, Department of Commerce.

ACTION: Notice of consideration and request for comments.

SUMMARY: Notice is hereby given that the Bureau of the Census (Census Bureau) is considering a proposal to conduct a Management and Organizational Practices Survey—Hospitals (MOPS-HP) as a joint project with Harvard Business School. Based on information and recommendations received by the Census Bureau, we understand that the data have significant application to the needs of other government agencies and the public. The MOPS-HP will collect data on management practices from Chief Nursing Officers (CNOs) at general, medical, and surgical hospitals to assist in identifying determinants of clinical and financial performance. These data are not publicly available from nongovernment or other governmental sources.

DATES: Written comments on this notice must be submitted on or before March 13, 2020.

ADDRESSES: Please direct all written comments to Edward Watkins, U.S. Census Bureau, Economy-Wide Statistics Division, 8K151, Washington, DC 20233-6600, or at edward.e.watkins.iii@census.gov.

FOR FURTHER INFORMATION CONTACT: Requests for additional information or copies of the information collection instrument(s) and instructions should be directed to Edward Watkins at edward.e.watkins.iii@census.gov or 301-763-4750.

SUPPLEMENTARY INFORMATION: The Census Bureau is considering a proposal to conduct the MOPS-HP for survey year 2019 as a joint project with Harvard Business School. The MOPS-HP will utilize the Service Annual Survey (SAS) mail-out sample and will collect data on management practices from CNOs at general, medical, and surgical hospitals to assist in identifying determinants of clinical and financial performance.

Currently, no official statistics on management practices in hospitals exist. Past research shows these practices are related to health care providers' clinical and financial outcomes. This suggests that providing measures on management practices may potentially help the United States health care system, which is challenged by rising health care costs, increased demand from an aging society, and quality objectives. These data would permit users, such as Harvard Business School, to examine relationships between management practices and financial outcomes using Census Bureau data (e.g., revenues) and relationships with clinical outcomes using external data sources. Additionally, these data would provide hospital administrators and managers information to evaluate their practices in comparison to other hospitals at an aggregate level.

The MOPS-HP content was proposed by external researchers with past experience in surveying hospitals on management practices. Some questions are adapted from the Management and Organizational Practices Survey (MOPS), conducted in the manufacturing sector, allowing for inter-sectoral comparisons. Content for the MOPS-HP includes performance monitoring, financial and clinical targets, and incentives. The 39 questions are grouped into the following sections: Tenure, Management Practices, Management Training, Management of Team Interactions, Staffing and Allocation of Human Resources, Standardized Clinical Protocols, Documentation of Patients' Medical Records, and Organizational Characteristics.

The MOPS-HP sample will consist of approximately 4,500 hospital locations for enterprises classified under General Medical and Surgical Hospitals (NAICS 6221) and sampled in the SAS. The survey will be mailed separately from the 2019 SAS and collected electronically through the Census Bureau's Centurion online reporting system. Respondents will be sent an initial letter with instructions detailing how to log into the instrument and report their information. These letters will be addressed to the location's CNO. Before mailing, the Census Bureau will attempt to identify the CNO at each location. In instances where the CNO is not identifiable, the letter will be addressed to the hospital's administrative office with attention to the CNO. Collection is scheduled to begin in September 2020 and end in April 2021.

Paperwork Reduction Act

Notwithstanding, any other provision of law, no person is required to respond to, nor shall a person be subject to a penalty for failure to comply with a collection of information subject to the requirements of the Paperwork Reduction Act (PRA) unless that collection of information displays a currently valid OMB control number. In accordance with the PRA, 44 United States Code, Chapter 45, the Census Bureau will submit a request for approval to the OMB for approval of the MOPS-HP.

Dated: February 5, 2020.
Steven D. Dillingham,
Director, Bureau of the Census.

[FR Doc. 2020-02758 Filed 2-11-20; 8:45 am]

BILLING CODE 3510-07-P